NUCLEAR REGULATORY COMMISSION

[Docket No. 52-042; NRC-2010-0165]

Exelon Nuclear Texas Holdings, LLC (Exelon) Acceptance for Docketing of an Application for an Early Site Permit for the Victoria County Station Site

On March 25, 2010, the Nuclear Regulatory Commission (NRC, the Commission) received an application from Exelon Nuclear Texas Holdings LLC (Exelon), dated March 25, 2010, filed pursuant to Section 103 of the Atomic Energy Act and 10 CFR Part 52, for an early site permit (ESP) for a location approximately 13.3 miles south of the city of Victoria, Texas, identified as the Victoria County Station ESP site. A notice of receipt and availability of this application was previously published in the Federal Register (75 FR 22434: April 28, 2010). The applicant supplemented the application by letters dated May 4, May 6, May 13, and May 20, 2010.

An applicant may seek an ESP in accordance with Subpart A of 10 CFR Part 52 separate from the filing of an application for a construction permit (CP) or combined license (COL) for a nuclear power facility. The ESP process allows resolution of issues relating to siting. At any time during the duration of an ESP (up to 20 years), the permit holder may reference the permit in a CP or COL application.

The NRC staff has determined that Exelon has submitted information in accordance with 10 CFR Parts 2 and 52 that is sufficiently complete and acceptable for docketing. The Docket Number established for this application is 52-042. The NRC staff will perform a detailed technical review of the application, and docketing of the ESP application does not preclude the NRC from requesting additional information from the applicant as the review proceeds, nor does it predict whether the Commission will grant or deny the application. The Commission will conduct a hearing in accordance with 10 CFR 52.21 and will receive a report on the application from the Advisory Committee on Reactor Safeguards in accordance with 10 CFR 52.23. If the Commission then finds that the application meets the applicable standards of the Atomic Energy Act and the Commission's regulations, and that required notifications to other agencies and bodies have been made, the Commission will issue an ESP, in the form and containing conditions and limitations that the Commission finds appropriate and necessary.

In accordance with 10 CFR Part 51, the Commission will also prepare an environmental impact statement for the proposed action. Pursuant to 10 CFR 51.26, and as part of the environmental scoping process, the staff intends to hold a public scoping meeting. Detailed information regarding this meeting will be included in a future Federal Register notice.

Finally, the Commission will announce, in a future Federal Register notice, the opportunity to petition for leave to intervene in the hearing required for this application by 10 CFR 52.21.

A copy of the Exelon ESP application is available for public inspection at the Commission's Public Document Room located at One White Flint North, 11555 Rockville Pike (first floor), Rockville, Maryland, and at the Victoria County Library in Victoria, Texas. It is also accessible electronically from the Agency wide Documents Access and Management System (ADAMS) Public Electronic Reading Room on the Internet at the NRC Web site, http://www.nrc.gov/reading-rm/adams.html (ADAMS Accession No. ML101110201).

Persons who do not have access to ADAMS, or who encounter problems in accessing the documents located in ADAMS, should contact the NRC Public Document Room staff by telephone at 1-800-397-4209, 301-415-4737 or by e-mail to pdr@nrc.gov.

Dated at Rockville, Maryland, this 7th day of June 2010.
For the Nuclear Regulatory Commission.
David B. Matthews,
Director, Division of New Reactor Licensing, Office of New Reactors.

[FR Doc. 2010-14208 Filed 6-11-10; 8:45 am]

BILLING CODE 7590-01-P